Proclamation 8531 of May 28, 2010

National Oceans Month, 2010

By the President of the United States of America

A Proclamation

Each year during National Oceans Month, we rededicate ourselves to protect the Earth’s dominant feature and precious resource. In 2010, this annual observance falls at a time of environmental crisis, as we continue our relentless efforts to stop and contain the oil spill threatening the Gulf Coast region. The oil spill has already caused substantial damage to our coastline and its natural habitats, and negatively impacted the livelihoods of Gulf Coast small businesses and communities. The environmental and economic devastation to the Gulf Coast region requires our continuing efforts to reverse the damage to our coastlines and revitalize affected areas.

As we respond to this disaster, we must not forget that our oceans, coasts, and Great Lakes demand our constant attention. They have long been under considerable strain from pollution, overfishing, climate change, and other human activity. Last year, I established the Interagency Ocean Policy Task Force and charged it with developing a clear direction for meeting our environmental stewardship responsibilities. Our oceans face complex challenges, and we must take a comprehensive approach to ensure their sustained protection, maintenance, and restoration.

The vitality and bounty of America’s natural resources immeasurably impact our lives. This year marks the 40th anniversary of the National Oceanic and Atmospheric Administration. As we commemorate this special milestone, we are reminded by the ongoing Gulf Coast crisis that we still have much to do in order to safeguard our vast oceanic resources for generations to come. Forty years from now, when our children look back on this moment, let them say that we did not waiver, but rather seized this opportunity to fulfill our duty to protect the waters that sustain us.

NOW, THEREFORE, I, BARACK OBAMA, President of the United States of America, by virtue of the authority vested in me by the Constitution and the laws of the United States, do hereby proclaim June 2010 as National Oceans Month. I call upon Americans to learn more about what they can do to protect, conserve, sustain, and enjoy our oceans, coasts, and Great Lakes.

IN WITNESS WHEREOF, I have hereunto set my hand this twenty-eighth day of May, in the year of our Lord two thousand ten, and of the Independence of the United States of America the two hundred and thirty-fourth.

[FR Doc. 2010-13675

Filed 6-4-10; 8:45 am]

Billing code 3195-W0-P